DEPARTMENT OF THE INTERIOR

National Park Service

[NPS-WASO-NAGPRA-NPS0034448; PPWOCRADN0-PCU00RP14.R50000]

Notice of Inventory Completion: Robert S. Peabody Institute of Archaeology, Andover, MA

AGENCY: National Park Service, Interior.

ACTION: Notice.

SUMMARY: The Robert S. Peabody Institute of Archaeology has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Robert S. Peabody Institute of Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Robert S. Peabody Institute of Archaeology at the address in this notice by October 6, 2022.

FOR FURTHER INFORMATION CONTACT: Ryan Wheeler, Robert S. Peabody Institute of Archaeology, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains and associated funerary objects under the control of the Robert S. Peabody Institute of Archaeology, Andover, MA. The human remains and associated funerary objects were removed from Moundville, Hale County, Hale County (near Moundville), and Foster's Ferry in Hale and Tuscaloosa Counties, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Robert S. Peabody Institute of Archaeology professional staff in consultation with representatives of the Alabama-Coushatta Tribe of Texas (previously listed as Alabama-Coushatta Tribes of Texas); Alabama-Quassarte Tribal Town; Coushatta Tribe of Louisiana; Jena Band of Choctaw Indians; Seminole Tribe of Florida (previously listed as Seminole Tribe of Florida (Dania, Big Cypress, Brighton, Hollywood, & Tampa Reservations)); The Chickasaw Nation; The Choctaw Nation of Oklahoma; The Muscogee (Creek) Nation; The Seminole Nation of Oklahoma; and the Thlopthlocco Tribal Town, hereafter referred to as “The Tribes.”

History and Description of the Remains

In 1905 and 1906, human remains representing, at minimum, one individual were removed from Moundville (01-TU-0500) in Hale and Tuscaloosa Counties, AL, by C.B. Moore. Moore sent some objects from his excavations, which he referred to as “duplicates,” to Warren K. Moorehead at the Department of Archaeology at Phillips Academy (now the Peabody Institute). Moorehead retained most of the objects sent to the Peabody Institute, but also traded some to other institutions. In 1920, Moorehead transferred ancestral human remains and funerary objects from Moundville to an institution in “Bangor, Maine”; the exact institution is unclear. In 1997, the ancestral humans remains were returned to the Peabody Institute. The fragmentary human remains belong to a juvenile of indeterminate sex. No known individual was identified. The 753 associated funerary objects are 20 ground stone discs and fragments, 20 ceramic discs, 483 ceramic sherds, two bone perforators, five celts, seven hammerstones, 23 ceramic vessels, 12 bifaces, 96 fragments of debitage, two ceramic figurine fragments, six faunal bone fragments, two pieces of galena, 66 shell beads, two chunks of hematite, five modified stones, one scraper, and one cast of a monolithic axe.

The human remains and funerary objects given to Moorehead by C.B. Moore came from multiple localities within the Moundville site complex, including: burial ground north east of Mound C, cemetery near Mound C, cemetery South of Mound D, field north of Mound D, field north of Mound R, field near Mound B, field near Mound D, field west of Mound B, field west of Mound R, ground north east of Mound C, ground south of Mound D, Mound B, Mound C, Mound D, Mound north of Mound C, Mound O, ridge north of Mound A, ridge north of Mound R, low mound west of Mound B, and Mound F.

In 1905 and 1906, 163 associated funerary objects were removed from an unspecified area Near Moundville in Hale County, AL, by C.B. Moore. Moore sent some objects from his excavations, which he referred to as “duplicates,” to Warren K. Moorehead at the Department of Archaeology at Phillips Academy (now the Peabody Institute). The 163 associated funerary objects are 149 ceramic sherds, nine ceramic vessels, three bifaces, and two scrapers.

In 1905 and 1906, one associated funerary object was removed from Hale County, AL, by C.B. Moore. Moore sent some objects from his excavations, which he referred to as “duplicates,” to Warren K. Moorehead at the Department of Archaeology at Phillips Academy (now the Peabody Institute). The one associated funerary object is a modified stone.

In 1905 and 1906, one associated funerary object was removed from Foster's Ferry, Tuscaloosa County, AL, by C.B. Moore. Moore sent some objects from his excavations, which he referred to as duplicates, to Warren K. Moorehead at the Department of Archaeology at Phillips Academy (now the Peabody Institute). The one associated funerary object is a modified stone.

The ancestral human remains and associated funerary objects, as well as the sites from which they were removed, are culturally affiliated to the Muskogean-speaking Indian Tribes, who consider all items associated with Moundville to be funerary. The present-day Muskogean-speaking Indian Tribes are The Tribes.

On November 23, 2021, the Native American Graves Protection and Repatriation Review Committee found that a relationship of shared group identity exists between the present-day Muskogean-speaking Indian Tribes and the earlier group connected to human remains and funerary objects excavated at, and adjacent to, the Moundville archeological site (01-TU-0500), in Tuscaloosa County, AL. The Review Committee's finding was based on linguistic, oral traditional, geographical, kinship, biological, archeological, historical, and anthropological lines of evidence. On February 1, 2022, this finding was published in the Federal Register (87 FR 5499-5500).

Determinations Made by the Robert S. Peabody Institute of Archaeology

Officials of the Robert S. Peabody Institute of Archaeology have determined that:

• Pursuant to 25 U.S.C. 3001(9), the human remains described in this notice represent the physical remains of one individual of Native American ancestry.

• Pursuant to 25 U.S.C. 3001(3)(A), the 918 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Ryan Wheeler, Robert S. Peabody Institute of Archaeology, 180 Main Street, Andover, MA 01810, telephone (978) 749-4490, email rwheeler@andover.edu, by October 6, 2022. After that date, if no additional requestors have come forward, transfer of control of the human remains and associated funerary objects to The Tribes may proceed.

The Robert S. Peabody Institute of Archaeology is responsible for notifying The Tribes that this notice has been published.

Dated: August 29, 2022.
Melanie O'Brien,
Manager, National NAGPRA Program.

[FR Doc. 2022-19168 Filed 9-2-22; 8:45 am]

BILLING CODE 4312-52-P